NATIONAL SCIENCE FOUNDATION

Sunshine Act Meetings

The National Science Board's (NSB) Committee on Oversight hereby gives notice of the scheduling of a videoconference meeting for the transaction of National Science Board business pursuant to the National Science Foundation Act and the Government in the Sunshine Act.

TIME AND DATE: Thursday, March 7, 2024, from 10:30-11:30 a.m. EST.

PLACE: This meeting will be held by videoconference through the National Science Foundation.

STATUS: Open.

MATTERS TO BE CONSIDERED: The agenda of the meeting is: Committee Chair's opening remarks; Office of the Inspector General presentation on investigating research misconduct by recipients of NSF funding; Office of the Inspector General presentation regarding the independent auditor's report of NSF's FY2023 Financial Statement; and Chief Financial Officer highlights of quarterly report.

CONTACT PERSON FOR MORE INFORMATION: Point of contact for this meeting is: (Chris Blair, cblair@nsf.gov), 703-292-7000. Members of the public can observe this meeting through a YouTube livestream. The YouTube link is: https://www.youtube.com/watch?v=hDnIssLUcIg

Ann E. Bushmiller,
Senior Counsel to the National Science Board.

[FR Doc. 2024-04692 Filed 3-1-24; 11:15 am]

BILLING CODE 7555-01-P